DEPARTMENT OF ENERGY

Federal Energy Regulatory Commission

Combined Notice of Filings #1

March 12, 2019.

Take notice that the Commission received the following exempt wholesale generator filings:

Docket Numbers: EG19-68-000.

Applicants: Windhub Solar B, LLC.

Description: Notice of Self-Certification of Exempt Wholesale Status of Windhub Solar B, LLC.

Filed Date: 3/11/19.

Accession Number: 20190311-5220.

Comments Due: 5 p.m. ET 4/1/19.

Take notice that the Commission received the following electric rate filings:

Docket Numbers: ER13-1562-006; ER10-2488-016; ER12-1931-007 ER10-2504-008; ER12-610-008; ER12-338-001.

Applicants: Catalina Solar Lessee, LLC, Oasis Power Partners, LLC, Pacific Wind Lessee, LLC, Shiloh Wind Project 2, LLC, Shiloh III Lessee, LLC, Shiloh IV Lessee, LLC.

Description: Notice of Change in Status of the EDFR CAISO Sellers.

Filed Date: 3/11/19.

Accession Number: 20190311-5266.

Comments Due: 5 p.m. ET 4/1/19.

Docket Numbers: ER15-2135-001; ER16-1878-002.

Applicants: Alexander Wind Farm, LLC, Ringer Hill Wind, LLC.

Description: Notice of Non-Material Change in Status of Alexander Wind Farm, LLC, et al.

Filed Date: 3/11/19.

Accession Number: 20190311-5273.

Comments Due: 5 p.m. ET 4/1/19.

Docket Numbers: ER17-256-007; ER17-242-007; ER17-243-007; ER17-245-007; ER17-652-007.

Applicants: Darby Power, LLC, Gavin Power, LLC, Lawrenceburg Power, LLC, Waterford Power, LLC, Lightstone Marketing LLC.

Description: Notice of Non-Material Change in Status of Darby Power, LLC, et. al.

Filed Date: 3/12/19.

Accession Number: 20190312-5159.

Comments Due: 5 p.m. ET 4/2/19.

Docket Numbers: ER19-813-001.

Applicants: Broken Bow Wind II, LLC.

Description: Tariff Amendment: Amendment to Pending Tariff Filing to be effective 1/16/2019.

Filed Date: 3/12/19.

Accession Number: 20190312-5099.

Comments Due: 5 p.m. ET 4/2/19.

Docket Numbers: ER19-924-001.

Applicants: Arizona Public Service Company.

Description: Tariff Amendment: Rate Schedule No. 274, WestConnect Planning Participation Agreement to be effective 12/31/2018.

Filed Date: 3/12/19.

Accession Number: 20190312-5075.

Comments Due: 5 p.m. ET 4/2/19.

Docket Numbers: ER19-1043-001.

Applicants: Idaho Power Company.

Description: Tariff Amendment: Amendment to Schedule 12 Update Regarding Real Power Losses for Dynamic Transfer to be effective 4/15/2019.

Filed Date: 3/12/19.

Accession Number: 20190312-5055.

Comments Due: 5 p.m. ET 4/2/19.

Docket Numbers: ER19-1208-000.

Applicants: Renewable Energy Aggregators, Inc.

Description: Request for Waiver of Renewable Energy Aggregators, Inc.

Filed Date: 3/6/19.

Accession Number: 20190306-5237.

Comments Due: 5 p.m. ET 3/21/19.

Docket Numbers: ER19-1240-000.

Applicants: Sage Solar I LLC.

Description: Baseline eTariff Filing: Sage Solar I LLC MBR to be effective 5/1/2019.

Filed Date: 3/11/19.

Accession Number: 20190311-5197, 20190311-5268.

Comments Due: 5 p.m. ET 4/1/19.

Docket Numbers: ER19-1241-000.

Applicants: Sage Solar II LLC.

Description: Baseline eTariff Filing: Sage Solar II LLC MBR to be effective 5/1/2019.

Filed Date: 3/11/19.

Accession Number: 20190311-5205, 20190311-5268.

Comments Due: 5 p.m. ET 4/1/19.

Docket Numbers: ER19-1242-000.

Applicants: Sage Solar III LLC.

Description: Baseline eTariff Filing: Sage Solar III LLC MBR to be effective 5/1/2019.

Filed Date: 3/11/19.

Accession Number: 20190311-5215, 20190311-5268.

Comments Due: 5 p.m. ET 4/1/19.

Docket Numbers: ER19-1243-000.

Applicants: PJM Interconnection, L.L.C.

Description: § 205(d) Rate Filing: First Revised Service Agreement No. 3471; Queue No. AE1-036 to be effective 2/8/2019.

Filed Date: 3/11/19.

Accession Number: 20190311-5219.

Comments Due: 5 p.m. ET 4/1/19.

Docket Numbers: ER19-1245-000.

Applicants: Nevada Power Company.

Description: § 205(d) Rate Filing: NPC-Overton-Lincoln Trans Agr R.S. 51 to be effective 5/11/2019.

Filed Date: 3/12/19.

Accession Number: 20190312-5001.

Comments Due: 5 p.m. ET 4/2/19.

Docket Numbers: ER19-1246-000.

Applicants: Southern California Edison Company.

Description: § 205(d) Rate Filing: Amendment to LGIA—Peak Valley Solar Farm, SA No. 198 to be effective 3/13/2018.

Filed Date: 3/12/19.

Accession Number: 20190312-5003.

Comments Due: 5 p.m. ET 4/2/19.

Docket Numbers: R19-1247-000.

Applicants: American Transmission Systems, Incorporated, PJM Interconnection, L.L.C.

Description: § 205(d) Rate Filing: ATSI submits (7) ECSAs, Service Agreement Nos. 5180-5184, 5192 and 5209 to be effective 5/14/2019.

Filed Date: 3/12/19.

Accession Number: 20190312-5037.

Comments Due: 5 p.m. ET 4/2/19.

Docket Numbers: ER19-1248-000.

Applicants: Midcontinent Independent System Operator, Inc.

Description: § 205(d) Rate Filing: 2019-03-12_SA 3262 Southern Hills Wind Energy—MidAmerican GIA (J527) to be effective 2/26/2019.

Filed Date: 3/12/19.

Accession Number: 20190312-5042.

Comments Due: 5 p.m. ET 4/2/19.

Docket Numbers: ER19-1249-000.

Applicants: Duke Energy Indiana, LLC.

Description: Tariff Cancellation: DEI—Rate Schedule No. 246 Cancellation Filing to be effective 12/12/2018.

Filed Date: 3/12/19.

Accession Number: 20190312-5058.

Comments Due: 5 p.m. ET 4/2/19.

Docket Numbers: ER19-1250-000.

Applicants: Duke Energy Carolinas, LLC.

Description: § 205(d) Rate Filing: DEC-Rutherford EMC NITSA (SA No. 369) Amendment to be effective 4/1/2019.

Filed Date: 3/12/19.

Accession Number: 20190312-5063.

Comments Due: 5 p.m. ET 4/2/19.

Docket Numbers: ER19-1252-000.

Applicants: PacifiCorp.

Description: § 205(d) Rate Filing: RS 239 BPA Two-Way Operation and Maintenance Agreement Rev 6 to be effective 5/12/2019.

Filed Date: 3/12/19.

Accession Number: 20190312-5081.

Comments Due: 5 p.m. ET 4/2/19.

Docket Numbers: ER19-1253-000.

Applicants: Midcontinent Independent System Operator, Inc.

Description: § 205(d) Rate Filing: 2019-03-12_SA 2997 Palo Alto Wind-MidAmerican 2nd Rev GIA (J529 J590) to be effective 2/26/2019.

Filed Date: 3/12/19.

Accession Number: 20190312-5111.

Comments Due: 5 p.m. ET 4/2/19.

Docket Numbers: ER19-1261-000.

Applicants: Southern California Edison Company.

Description: § 205(d) Rate Filing: LGIA—Athos Power Plant SA No. 227 to be effective 3/13/2019.

Filed Date: 3/12/19.

Accession Number: 20190312-5151.

Comments Due: 5 p.m. ET 4/2/19.

Docket Numbers: ER19-1262-000.

Applicants: Indiana Michigan Power Company, PJM Interconnection, L.L.C.

Description: § 205(d) Rate Filing: AEPSC submits Interconnection Agreement, SA No. 1263 to be effective 12/3/2018.

Filed Date: 3/12/19.

Accession Number: 20190312-5158.

Comments Due: 5 p.m. ET 4/2/19.

Docket Numbers: ER19-1263-000.

Applicants: PJM Interconnection, L.L.C.

Description: Tariff Cancellation: Notice of Cancellation of ISA SA No. 4104; Queue No. U2-045/W4-063 to be effective 3/12/2019.

Filed Date: 3/12/19.

Accession Number: 20190312-5160.

Comments Due: 5 p.m. ET 4/2/19.

Take notice that the Commission received the following electric reliability filings.

Docket Numbers: RD19-3-000.

Applicants: North American Electric Reliability Corporation.

Description: Petition of the North American Electric Reliability Corporation for Approval of Proposed Reliability Standard CIP-008-6.

Filed Date: 3/7/19.

Accession Number: 20190307-5219.

Comments Due: 5 p.m. ET 4/11/19.

Docket Numbers: RD19-4-000.

Applicants: North American Electric Reliability Corporation, Western Electricity Coordinating Council.

Description: Joint Petition of the North American Electric Reliability Corporation and Western Electricity Coordinating Council for Approval of Proposed Regional Reliability Standard IRO-006-WECC-3.

Filed Date: 3/6/19.

Accession Number: 20190306-5262.

Comments Due: 5 p.m. ET 4/11/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 12, 2019.
Nathaniel J. Davis, Sr.,
Deputy Secretary.

[FR Doc. 2019-05059 Filed 3-18-19; 8:45 am]

BILLING CODE 6717-01-P